DEPARTMENT OF HEALTH AND HUMAN SERVICES

Food and Drug Administration

[Docket Nos. FDA-2012-N-0564, FDA-2015-N-0797, FDA-2012-N-0021, FDA-2012-N-0280, FDA-2007-D-0372, FDA-2014-D-0044]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: FDA PRA Staff, Office of Operations, Food and Drug Administration, 8455 Colesville Rd., COLE-14526, Silver Spring, MD 20993-0002, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the Internet at http://www.reginfo.gov/public/do/PRAMain. An Agency may not conduct or sponsor, and a person is not required to respond to, a collection of information unless it displays a currently valid OMB control number.

Table 1—List of Information Collections Approved by OMB
Title of collection | OMB control No. | Date approval expires
Labeling of Dietary Supplements as Required by the Dietary Supplement and Nonprescription Drug Consumer Protection Act | 0910-0642 | 2/28/2019
Foreign Supplier Verification Programs for Importers of Food for Humans and Animals | 0910-0752 | 2/28/2019
Substances Generally Recognized as Safe: Notification Procedure | 0910-0342 | 3/31/2019
Financial Disclosure by Clinical Investigators | 0910-0396 | 3/31/2019
Adverse Event Reporting and Recordkeeping for Dietary Supplements as Required by the Dietary Supplement and Nonprescription Drug Consumer Protection Act | 0910-0635 | 3/31/2019
Exempt Infant Formula Production: Current Good Manufacturing Practices (CGMPs), Quality Control Procedures, Conduct of Audits, and Records | 0910-0811 | 3/31/2019

Dated: April 5, 2016.
Leslie Kux,
Associate Commissioner for Policy.

[FR Doc. 2016-08153 Filed 4-8-16; 8:45 am]

BILLING CODE 4164-01-P